COMMODITY FUTURES TRADING COMMISSION

Agency Information Collection Activities Under OMB Review

AGENCY: Commodity Futures Trading Commission.

ACTION: Notice.

SUMMARY: In compliance with the Paperwork Reduction Act (PRA), this notice announces that the Information Collection Request (ICR) abstracted below has been forwarded to the Office of Management and Budget (OMB) for review and comment. The ICR describes the nature of the information collection and its expected costs and burden.

DATES: Comments must be submitted on or before February 9, 2017.

ADDRESSES: Comments regarding the burden estimated or any other aspect of the information collection, including suggestions for reducing the burden, may be submitted directly to the Office of Information and Regulatory Affairs (OIRA) to OMB within 30 days of the notice's publication, by email at OIRAsubmissions@omb.eop.gov. Please identify comments by OMB Control No. 3038-0025. Please provide the Commission with a copy of all submitted comments at the address listed below. Please refer to OMB Reference No. 3038-0025 found on http://reginfo.gov. Comments also may be mailed to the Office of Information and Regulatory Affairs, Office of Management and Budget, Attention: Desk Officer for the Commodity Futures Trading Commission, 725 17th Street NW., Washington, DC 20503 and to Christopher Kirkpatrick, Secretary of the Commission, Commodity Futures Trading Commission, 1155 21st Street NW., Washington, DC 20581, or by Hand Deliver/Courier at the same address; or through the Agency's Web site at http://comments.cftc.gov. Follow the instructions for submitting comments through the Web site.

FOR FURTHER INFORMATION CONTACT: Bianca Gomez, Counsel, Office of the General Counsel, Commodity Futures Trading Commission, (202) 418-5627; email: bgomez@cftc.gov, and refer to OMB Control No. 3038-0025.

SUPPLEMENTARY INFORMATION:

Title: Practice by Former Members and Employees of the Commission (OMB Control No. 3038-0025). This is a request for an extension of a currently approved information collection.

Abstract: Commission Rule 140.735-6 governs the practice before the Commission of former members and employees of the Commission and is intended to ensure that the Commission is aware of any existing conflict of interest. The rule generally requires former members and employees who are employed or retained to represent any person before the Commission within two years of the termination of their CFTC employment, to file a brief written statement with the Commission's Office of the General Counsel. The proposed rule was promulgated pursuant to the Commission's rulemaking authority contained in Section 8a(5) of the Commodity Exchange Act, 7 U.S.C. 12a(5) (1994), as amended.

An agency may not conduct or sponsor, and a person is not required to respond to, a collection of information unless it displays a current valid OMB control number. The OMB control numbers for the CFTC's regulations were published on December 30, 1981. See 46 FR 63035 (Dec. 30, 1981). The Federal Register notice with a 60-day comment period soliciting comments on this collection of information was published on December 11, 2013 (78 FR 75333).

Burden statement: The respondent burden for this collection is estimated to average 0.10 hours per response to file the brief written statement. This estimate includes the time needed to review instructions; develop, acquire, install, and utilize technology and systems for the purposes of collecting, validating, and verifying information, processing and maintaining information and disclosing and providing information; adjust the existing ways to comply with any previously applicable instructions and requirements; train personnel to be able to respond to a collection of information; and transmit or otherwise disclose the information.

Respondents/Affected Entities: Former Employees and their employers.

Estimated number of respondents: 30.

Estimated annual burden hours per respondent: 0.10 hours.

Estimated total annual responses: 30.

Estimated total annual burden on respondents: 3 hours.

Frequency of collection: On occasion.

(Authority: 44 U.S.C. 3501 et seq.)

Dated: January 5, 2017.
Robert N. Sidman,
Deputy Secretary of the Commission.

[FR Doc. 2017-00281 Filed 1-9-17; 8:45 am]

BILLING CODE 6351-01-P